DEPARTMENT OF DEFENSE

Department of the Army

Performance Review Board Membership

AGENCY: Department of the Army, DoD.

ACTION: Notice.

SUMMARY: Notice is given of the names of members of a Performance Review Board for the Department of the Army.

DATES: Effective Date: November 16, 2010.

FOR FURTHER INFORMATION CONTACT: Angel Wolfrey, Civilian Senior Leader Management Office, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Department of the Army Performance Review Board are:

1. Ms. Stephanie A. Barna, Deputy General Counsel (Operations and Personnel), Office of the General Counsel.

2. Dr. Craig E. College, Deputy, Deputy Assistant Chief of Staff for Installation Management, Office of the Assistant Chief of Staff for Installation Management.

3. Ms. Kathryn A. Condon, Executive Director of the Army National Cemeteries Program, Office of the Secretary of the Army.

4. Gwendolyn R. DeFilippi, Director, Civilian Senior Leader Management Office, Office of the Assistant Secretary of the Army (Manpower and Reserve Affairs).

5. Major General Genaro J. Dellarocco, Commanding General, Army Test and Evaluation Command.

6. Major General Ann E. Dunwoody, Commanding General, United States Army Materiel Command.

7. Ms. Sue A. Engelhardt, Director of Human Resources, United States Army Corps of Engineers.

8. Mr. Kevin M. Fahey, Program Executive Officer, Combat Support and Combat Service Support, Office of the Assistant Secretary of the Army (Acquisition, Logistics and Technology).

9. Ms. Teresa W. Gerton, Executive Deputy to the Commanding General, United States Army Materiel Command.

10. Mr. Louis J. Hansen, Principal Deputy to the Assistant Secretary of the Army (Installations and Environment), Office of the Assistant Secretary of the Army (Installations and Environment).

11. Ms. Ellen M. Helmerson, Deputy Chief of Staff, G-1/4 (Personnel and Logistics), United States Army Training and Doctrine Command.

12. Mr. Thomas R. Lamont, Assistant Secretary of the Army (Manpower and Reserve Affairs), Office of the Assistant Secretary of the Army (Manpower and Reserve Affairs).

13. Mr. Mark R. Lewis, Assistant Deputy Chief of Staff for Operations (G-3/5/7), Office of Deputy Chief of Staff for Operations.

14. Mr. Joseph M. McDade, Assistant Deputy Chief of Staff, G-1, Office of the Assistant G-1.

15. Ms. Joyce E. Morrow, Administrative Assistant to the Secretary of the Army, Office of the Secretary of the Army.

16. Mr. John B. Nerger, Executive Director/Director of Services, Assistant Chief of Staff for Installation Management, Installation Management Command.

17. Mr. Levator Norsworthy Jr., Deputy General Counsel (Acquisition)/Senior Deputy General Counsel, Office of the General Counsel.

18. Mr. Gerald B. O'Keefe, Deputy Administrative Assistant to the Secretary of the Army/Director, Shared Services, Office of the Administrative Assistant to the Secretary of the Army.

19. Dr. Malcolm R. O'Neill, Assistant Secretary of the Army (Acquisition, Logistics and Technology), Office of the Assistant Secretary of the Army (Acquisition, Logistics and Technology).

20. Lieutenant General James H. Pillsbury, Deputy Commanding General, United States Army Material Command.

21. Mr. Wimpy D. Pybus, Deputy Assistant Secretary of the Army for Integrated Logistics Support, Office of the Assistant Secretary of the Army (Acquisition, Logistics, and Technology).

22. Mr. Craig R. Schmauder, Deputy General Counsel (Installation, Environment and Civil Works), Office of the General Counsel.

23. Mr. Karl F. Schneider, Principal Deputy to the Assistant Secretary of the Army (Manpower and Reserve Affairs), Office of Assistant Secretary of the Army, Manpower and Reserve Affairs.

24. Dr. James J. Streilein, Executive Director, Army Test and Evaluation Command.

25. Lawrence Stubblefield, Deputy Assistant Secretary of the Army (Diversity and Leadership), Office of the Assistant Secretary of the Army (Manpower and Reserve Affairs).

26. Major General Bo Temple, Deputy Commanding General, United States Army Corps of Engineers.

27. Lieutenant General Robert L. Van Antwerp Jr., Commanding General, United States Army Corps of Engineers.

Brenda S. Bowen,
Army Federal Register Liaison Officer.

[FR Doc. 2010-29207 Filed 11-18-10; 8:45 am]

BILLING CODE 3710-08-P